ENVIRONMENTAL PROTECTION AGENCY

[ER-FRL-9058-2]

Environmental Impact Statements; Notice of Availability

Responsible Agency: Office of Federal Activities, General Information 202-564-5632 or https://www.epa.gov/nepa.

Weekly receipt of Environmental Impact Statements (EIS)

Filed August 23, 2021 10 a.m. EST Through August 30, 2021 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20210128, Draft, NOAA, CT, Connecticut National Estuarine Research Reserve, Comment Period Ends: 10/18/2021, Contact: Erica Seiden 240-533-0781.

EIS No. 20210129, Draft, USPS, DC, Next Generation Delivery Vehicle Acquisitions, Comment Period Ends: 10/18/2021, Contact: Davon M. Collins 202-268-4570.

EIS No. 20210130, Draft, USACE, NY, Nassau County Back Bays Coastal Storm Risk Management Integrated Feasibility Report and Environmental Impact Statement, Comment Period Ends: 10/18/2021, Contact: Scott Sanderson 215-656-6571.

EIS No. 20210131, Final, USACE, LA, South Central Coast Louisiana Final Integrated Feasibility Study with Environmental Impact Statement, Review Period Ends: 10/04/2021, Contact: Joe Jordan 309-794-5791.

Amended Notice:

EIS No. 20210095, Draft, FHWA, NY, Interstate 81 Viaduct Project, Comment Period Ends: 10/14/2021, Contact: Richard J. Marquis 518-431-4127. Revision to FR Notice Published 07/16/2021; Extending the Comment Period from 09/14/2021 to 10/14/2021.

EIS No. 20210103, Draft, FTA, CA, West Santa Ana Branch Transit Corridor Project Draft Environmental Impact Statement/Environmental Impact Report, Comment Period Ends: 09/28/2021, Contact: Rusty Whisman 213-202-3956. Revision to FR Notice Published 07/30/2021; Extending the Comment Period from 09/13/2021 to 09/28/2021.

Dated: August 30, 2021.
Cindy S. Barger,
Director, NEPA Compliance Division, Office of Federal Activities.

[FR Doc. 2021-19063 Filed 9-2-21; 8:45 a.m.]

BILLING CODE 6560-50-P